DEPARTMENT OF ENERGY

Federal Energy Regulatory Commission

[Docket No. EG03-1-000, et al.]

Riverside Energy Center, LLC, et al.; Electric Rate and Corporate Regulation Filings

October 8, 2002.

The following filings have been made with the Commission. The filings are listed in ascending order within each docket classification.

1. Riverside Energy Center, LLC

[Docket No. EG03-1-000]

Take notice that on October 4, 2002, Riverside Energy Center, LLC (Riverside or Applicant) tendered for filing with the Federal Energy Regulatory Commission (Commission) an application for determination of exempt wholesale generator status pursuant to Part 365 of the Commission's regulations. Applicant, a Wisconsin limited liability company, proposes to own and operate a 600 megawatt natural gas-fired combined cycle electric generating facility in the Town of Beloit, Rock County, Wisconsin.

Comment Date: October 29, 2002.

2. Duke Energy Hanging Rock, LLC

[Docket No. EG03-2-000]

Take notice that on October 4, 2002, Duke Energy Hanging Rock, LLC (Duke Hanging Rock) filed an application with the Federal Energy Regulatory Commission (the Commission) for determination of exempt wholesale generator status pursuant to Section 32 of the Public Utility Holding Company Act of 1935, as amended, and Part 365 of the Commission's regulations.

Duke Hanging Rock states that it is a Delaware limited liability company that will be engaged directly and exclusively in the business of operating all or part of one or more eligible facilities to be located in Lawrence County, Ohio. The eligible facilities will consist of an approximately 1,240 MW natural gas-fired, combined cycle electric generation plant and related facilities. The output of the eligible facilities will be sold at wholesale.

Comment Date: October 29, 2002.

3. Edison Source

[Docket No. ER02-2564-001]

Take notice that on October 3, 2002, Edison Source tendered for filing with the Federal Energy Regulatory Commission (Commission) an amendment to its filing in the above-referenced docket concerning the termination of the (I) Scheduling Coordinator Agreement, dated November 20, 1997, as amended by Amendment No. 1, dated June 1, 1998, and (ii) Meter Service Agreement for Scheduling Coordinators, dated November 20, 1997, as amended by Amendment No. 1, dated June 1, 1998; (iii) Application Programming Interface to Scheduling Infrastructure System Sublicense Agreement, dated September 15, 1998; and (iv) withdrawing Edison Source's Standing Request Relating to Inter-Scheduling Coordinator Trades, dated June 5, 1998.

Edison Source requests that the above terminations and withdrawal become effective as of December 16, 2002.

Comment Date: October 24, 2002.

4. Consumers Energy Company

[Docket No. ER03-15-000]

Take notice that on October 4, 2002, Consumers Energy Company (Consumers) tendered for filing changes to its First Revised Rate Schedule No. 116. Consumers states that the changes are being made pursuant to Section 5.3 of that rate schedule to reflect the outcome of Docket No. OA96-77-000. The revised pages filed are First Revised Sheet Nos. 2, 11, 12, 22, 23 and 24 and Original Sheet No. 23a.

Copies of the filing were served upon the customer and the Michigan Public Service Commission.

Comment Date: October 25, 2002.

5. Golden Spread Electric Cooperative, Inc.

[Docket No. ER03-16-000]

Take notice that on October 4, 2002, Golden Spread Electric Cooperative, Inc. (Golden Spread) tendered for filing with the Commission a Second Informational Filing to Golden Spread Rate Schedule No. 35. The Second Informational Filing updates the formulary fixed costs associated with replacement energy sales by Golden Spread to Southwestern Public Service Company (Southwestern). A copy of this filing has been served upon Southwestern.

Comment Date: October 25, 2002.

6. Duke Energy Hanging Rock, LLC

[Docket No. ER03-17-000]

Take notice that on October 4, 2002, Duke Energy Hanging Rock, LLC (Duke Hanging Rock) tendered for filing pursuant to Section 205 of the Federal Power Act its proposed FERC Electric Tariff No. 1.

Duke Hanging Rock seeks authority to sell energy and capacity, as well as ancillary services, at market-based rates, together with certain waivers and preapprovals. Duke Hanging Rock also seeks authority to sell, assign, or transfer transmission rights that it may acquire in the course of its marketing activities. Duke Hanging Rock seeks an effective date 60 days from the date of filing of its proposed rate tariff.

Comment Date: October 25, 2002.

7. Astoria Generating Company, L.P.

[Docket No. ER03-18-000]

Take notice that on October 4, 2002, Astoria Generating Company, L.P. (Astoria) submitted for filing pursuant to Section 205 of the Federal Power Act, 16 U.S.C. 824d (1994) and Part 35 of the Commission's Regulations, a Tariff for Quick Start Service (Tariff) to compensate Astoria for Quick Start Service provided to Consolidated Edison Company of New York, Inc. or the New York Independent System Operator, Inc. (NYISO). Astoria will provide Quick Start Service to the Buyers to allow Con Edison and/or the NYISO to meet New York State Reliability Council reliability requirements.

Astoria respectfully requests that the Commission waive the notice requirements set forth in Rule 35.3(a) to the extent necessary to allow the Tariff to become effective as of October 4, 2002.

Comment Date: October 25, 2002.

8. The Detroit Edison Company

[Docket No. ER03-19-000]

Take notice that on October 4, 2002, The Detroit Edison Company tendered for filing with the Federal Energy Regulatory Commission (Commission) a filing pursuant to Section 205 of the Federal Power Act in the above-captioned docket. The filing requests that the Commission accept for filing an Agency Agreement for Open Access Wholesale Distribution Interconnection Service between The Detroit Edison Company and the Midwest Independent Transmission System Operator, Inc., dated October 3, 2002.

Comment Date: October 25, 2002.

9. PJM Interconnection, L.L.C.

[Docket No. ER03-20-000]

Take notice that on October 4, 2002 PJM Interconnection, L.L.C. (PJM), submitted for filing an executed revised interconnection service agreement between PJM and Conectiv Delmarva Generation Inc. (Conectiv) that supercedes an earlier interconnection service agreement between the parties.

PJM requests a waiver of the Commission's 60-day notice requirement to permit the effective dates agreed to by the parties. Copies of this filing were served upon Conectiv and the state regulatory commissions within the PJM region.

Comment Date: October 25, 2002.

10. Louisville Gas and Electric Company

[Docket No. ES03-1-000]

Take notice that on October 1, 2002, Louisville Gas and Electric Company submitted an application pursuant to section 204 of the Federal Power Act seeking authorization to issue no more than $400 million of short-term debt securities, from time to time during a two-year period.

Comment Date: October 29, 2002.

11. Kentucky Utilities Company

[Docket No. ES03-2-000]

Take notice that on October 1, 2002, Kentucky Utilities Company filed an application pursuant to section 204 of the Federal Power Act seeking authorization to issue short-term debt in an amount not to exceed $400 million, on or before November 30, 2004.

Comment Date: October 29, 2002.

Standard Paragraph

Any person desiring to intervene or to protest this filing should file with the Federal Energy Regulatory Commission, 888 First Street, NE, Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-26363 Filed 10-15-02; 8:45 am]

BILLING CODE 6717-01-P